DEPARTMENT OF COMMERCE

International Trade Administration

Rescission of Antidumping and Countervailing Duty Administrative Reviews

AGENCY: Enforcement and Compliance, International Trade Administration, Department of Commerce.

SUMMARY: Based upon the timely withdrawal of all review requests, the Department of Commerce (Commerce) is rescinding the administrative reviews covering the periods of review for the antidumping duty (AD) and countervailing duty (CVD) orders identified in the table below.

DATES: Applicable October 25, 2021.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Based upon timely requests for review, Commerce initiated administrative reviews of certain companies for the periods of review for the AD and CVD orders listed in the table below, pursuant to 19 CFR 351.221(c)(1)(i).¹ All requests for these reviews have been timely withdrawn.²

¹ See Initiation of Antidumping and Countervailing Duty Administrative Reviews, 86 FR 23925 (May 5, 2021); see also Initiation of Antidumping and Countervailing Duty Administrative Reviews, 86 FR 31282 (June 11, 2021); Initiation of Antidumping and Countervailing Duty Administrative Reviews, 86 FR 35481 (July 6, 2021); Initiation of Antidumping and Countervailing Duty Administrative Reviews, 86 FR 41821 (August 3, 2021); and Initiation of Antidumping and Countervailing Duty Administrative Reviews, 86 FR 50034 (September 7, 2021).

² The letters withdrawing the review requests may be found in Enforcement and Compliance's Antidumping and Countervailing Duty Centralized Electronic Service System (ACCESS). ACCESS is available to registered users at https://access.trade.gov.

Rescission of Reviews

Pursuant to 19 CFR 351.213(d)(1), Commerce will rescind an administrative review, in whole or in part, if the parties that requested the review withdraw their review requests within 90 days of the date of publication of the notice of initiation for the requested review. All parties withdrew their requests for the reviews listed in the table below within the 90-day deadline. No other parties requested administrative reviews of these AD/CVD orders for the periods noted in the table. Therefore, in accordance with 19 CFR 351.213(d)(1), Commerce is rescinding, in their entirety, the administrative reviews listed in the table below.

| Period of review
AD Proceedings
Argentina:
Biodiesel, A-357-820 | 4/1/2020-3/31/2021
Brazil:
Certain Uncoated Paper, A-351-842 | 3/1/2020-2/28/2021
Canada:
Polyethylene Terephthalate Resin, A-122-855 | 5/1/2021-4/30/2021
Germany:
Cold-Drawn Mechanical Tubing, A-428-845 | 6/1/2020-5/31/2021
India:
Fine Denier Polyester Staple Fiber, A-533-875 | 7/1/2020-6/30/2021
Indonesia:
Biodiesel, A-560-830 | 4/1/2020-3/31/2021
Japan:
Carbon and Alloy Seamless Standard, Line, Pressure (under 4½ inches), A-588-851 | 6/1/2020-5/31/2021
Cold-Rolled Steel Flat Products | 7/1/2020-6/30/2021
Republic of Korea:
Polyester Staple Fiber, A-580-839 | 5/1/2020-4/30/2021
Switzerland:
Certain Cold-Drawn Mechanical Tubing of Carbon and Alloy Steel, A-441-801 | 6/1/2020-5/31/2021
Taiwan:
Stainless Steel Plate in Coils, A-583-830 | 5/1/2020-4/30/2021
The Republic of Turkey:
Certain Quartz Surface Products, A-489-837 | 12/13/2019-5/31/2021
The People's Republic of China:
Alloy and Certain Carbon Steel Threaded Rod, A-570-104 | 9/25/2019-3/31/2021
Aluminum Extrusions, A-570-967 | 5/1/2020-4/30/2021
Certain Aluminum Foil, A-570-053 | 4/1/2020-3/31/2021
Certain Amorphous Silica Fabric, A-570-038 | 3/1/2020-2/28/2021
Oil Country Tubular Goods, A-570-943 | 5/1/2020-4/30/2021
Stainless Steel Sheet and Strip, A-570-042 | 4/1/2020-3/31/2021
CVD Proceedings
The Republic of Turkey:
Certain Quartz Surface Products, C-489-838 | 10/11/2019-12/31/2020
The People's Republic of China:
Aluminum Extrusions, C-570-968 | 1/1/2020-12/21/2020
Certain Aluminum Foil, C-570-054 | 1/1/2020-12/31/2020
Glycine, C-570-081 | 1/1/2020-12/31/2020
Stainless Steel Sheet and Strip, C-570-043 | 1/1/2020-12/31/2020
The Socialist Republic of Vietnam:
Certain Steel Nails, C-552-819 | 1/1/2020-12/31/2020

Assessment

Commerce will instruct U.S. Customs and Border Protection (CBP) to assess antidumping and/or countervailing duties on all appropriate entries during the periods of review noted above for each of the listed administrative reviews at rates equal to the cash deposit of estimated antidumping or countervailing duties, as applicable, required at the time of entry, or withdrawal of merchandise from warehouse, for consumption, in accordance with 19 CFR 351.212(c)(1)(i). Commerce intends to issue assessment instructions to CBP no earlier than 35 days after the date of publication of this recission notice in the Federal Register for rescinded administrative reviews of AD/CVD orders on countries other than Canada and Mexico. For rescinded administrative reviews of AD/CVD orders on Canada or Mexico, Commerce intends to issue assessment instructions to CBP no earlier than 41 days after the date of publication of this recission notice in the Federal Register.

Notification to Importers

This notice serves as the only reminder to importers of merchandise subject to AD orders of their responsibility under 19 CFR 351.402(f)(2) to file a certificate regarding the reimbursement of antidumping duties and/or countervailing duties prior to liquidation of the relevant entries during the review period. Failure to comply with this requirement could result in the presumption that reimbursement of antidumping duties and/or countervailing duties occurred and the subsequent assessment of doubled antidumping duties.

Notification Regarding Administrative Protective Order

This notice also serves as the only reminder to parties subject to administrative protective orders (APO) of their responsibility concerning the disposition of proprietary information disclosed under APO in accordance with 19 CFR 351.305(a)(3), which continues to govern business proprietary information in these segments of these proceedings. Timely written notification of the return or destruction of APO materials or conversion to judicial protective order is hereby requested. Failure to comply with the regulations and the terms of an APO is a sanctionable violation.

Notification to Interested Parties

This notice is issued and published in accordance with sections 751(a)(1) and 777(i)(1) of the Tariff Act of 1930, as amended, and 19 CFR 351.213(d)(4).

Dated: October 19, 2021.
James Maeder,
Deputy Assistant Secretary for Antidumping and Countervailing Duty Operations.

[FR Doc. 2021-23119 Filed 10-22-21; 8:45 am]

BILLING CODE 3510-DS-P